DEPARTMENT OF COMMERCE

Membership of the Departmental Performance Review Board

AGENCY: Department of Commerce.

ACTION: Notice of membership on the Departmental Performance Review Board.

SUMMARY: In accordance with 5 U.S.C., 4314(c)(4), Department of Commerce (DOC) announces the appointment of persons to serve as members of the Departmental Performance Review Board (DPRB). The DPRB is responsible for reviewing performance appraisals and ratings of Senior Executive Service (SES) members and serves as the higher level review of executives who report to an appointing authority. The appointment of these members to the DPRB will be for a period of 24 months.

DATES: Effective Date: The effective date of service of appointees to the Departmental Performance Review Board is upon publication of this notice.

FOR FURTHER INFORMATION CONTACT: Denise Yaag, Director, Office of Executive Resources, Office of Human Resources Management, Office of the Director, 14th and Constitution Avenue, NW., Washington, DC 20230, (202) 482-3600.

SUPPLEMENTARY INFORMATION: The names and position titles of the members of the DPRB are set forth below by organization:

Department of Commerce, Departmental Performance Review Board Membership 2006-2008

Office of the Secretary

Aimee L. Strudwick, Chief of Staff to the Deputy Secretary.

Office of General Counsel

Michael A. Levitt, Assistant General Counsel for Legislation and Regulation.

Joan McGinnis, Assistant General Counsel for Finance and Litigation.

Chief Financial Officer and Assistant Secretary for Administration

William J. Fleming, Deputy Director for Human Resources Management.

Bureau of the Census

Dr. Hermann Habermann, Deputy Director.

Marvin Raines, Associate Director for Field Operations.

Economics and Statistics Administration

James K. White, Associate Under Secretary for Management.

Economics and Development Administration

Mary Pleffner, Deputy Assistant Secretary for Management.

National Telecommunications and Information Administration

Kathy D. Smith, Chief Counsel.

National Oceanic and Atmospheric Administration

Bonnie Morehouse, Director, Program Analysis and Evaluation.

Maureen Wylie, Deputy Chief Financial Officer, Director of Budget.

Kathleen A. Kelly, Director, Office of Satellite Operations, NESDIS.

National Technical Information Service

Ellen Herbst, Director, National Technical Information Service.

National Institute of Standards and Technology

Richard F. Kayser, Director, Materials Science and Engineering Laboratory.

Kathleen M. Higgins, Director, Office of Law Enforcement Standards, EEEL.

Dated: September 28, 2006.
Denise Yaag,
Director, Office of Executive Resources.

[FR Doc. 06-8586 Filed 10-10-06; 8:45 am]

BILLING CODE 3510-BS-M